DEPARTMENT OF TRANSPORTATION

Federal Aviation Administration

RTCA Special Committee 196; Night Vision Goggle (NVG) Appliances & Equipment

Pursuant to section 10(a)(2) of the Federal Advisory Committee Act (Pub. L. 92-463, 5 U.S.C., Appendix 2), notice is hereby given for Special Committee (SC)-196 meeting to be held September 13-15, 2000, starting at 8:00 a.m. each day. On September 13 and 14, the meeting will be held at the GSA Training Center, 490 L'Enfant Plaza East Promenade, Suite 3208, Room 3A. On September 15, the meeting will take place at RTCA, 1140 Connecticut Avenue, N.W., Suite 1020, Washington, DC 20036.

The agenda will include: September 13-14: (1) Welcome and Introductory Remarks; (2) Agenda Overview; (3) Review/Approval of Previous Meeting Minutes; (4) Action Item Status Review; (5) Overview of SC-196 Working Group (WG) Activities: (a) WG-1, Operational Concept/Requirements; (b) WG-2, Night Vision Goggles Minimum Operational Performance Standards; (c) WG-3, Night Vision Imaging System Lighting; (d) WG-4, Maintenance/Serviceability; (e) WG-5, Training Guidelines/Considerations; (6) WG-1 Final Draft Overview. September 15: (7) Risk and System Safety Assessment Discussion; (8) Operational Concept/Requirements Ballot Process; (9) Open Issue List Review; (10) Other Business; (11) Establish Agenda for Next Meeting; (12) Date and Location of Next Meeting; (13) Workgroup Breakout Sessions; (14) Working Group Chairpersons meeting; (15) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on August 24, 2000.
Janice L. Peters,
Designated Official.

[FR Doc. 00-22362 Filed 8-30-00; 8:45 am]

BILLING CODE 4910-13-M